ENVIRONMENTAL PROTECTION AGENCY

[ER-FRL-9056-6]

Environmental Impact Statements; Notice of Availability

Responsible Agency: Office of Federal Activities, General Information 202-564-5632 or https://www.epa.gov/nepa.

Weekly receipt of Environmental Impact Statements (EIS)

Filed May 10, 2021 10 a.m. EST Through May 17, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210053, Draft, USA, CA, Training and Public Land Withdrawal Extension, Fort Irwin, California, Comment Period Ends: 07/06/2021, Contact: Muhammad Bari 760-380-3543.

EIS No. 20210054, Draft, NMFS, MD, Draft Amendment 13 to the 2006 Consolidated Atlantic Highly Migratory Species Fishery Management Plan, Comment Period Ends: 07/20/2021, Contact: Thomas A Warren 978-281-9347.

EIS No. 20210055, Final, FAA, CA, Bob Hope “Hollywood-Burbank” Airport Replacement Passenger Terminal, Contact: Edvige B. Mbakoup 424-405-7283. Under 49 U.S.C. 304a(b), FAA has issued a single document that consists of a final environmental impact statement and record of decision. Therefore, the 30-day wait/review period under NEPA does not apply to this action.

EIS No. 20210056, Draft, Caltrans, FRA, CA, Coachella Valley-San Gorgonio Pass Rail Corridor Service Program Tier 1/Program Environmental Impact Statement/Environmental Impact Report, Comment Period Ends: 07/06/2021, Contact: Amanda Ciampolillo 617-494-2173.

Dated: May 17, 2021.
Cindy S. Barger,
Director, NEPA Compliance Division, Office of Federal Activities.

[FR Doc. 2021-10762 Filed 5-20-21; 8:45 am]

BILLING CODE 6560-50-P